DEPARTMENT OF COMMERCE

National Oceanic and Atmospheric Administration

RIN 0648-XE843

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Monday, September 12, 2016 at 10 a.m.

ADDRESSES: The meeting will be held at the Fairfield Inn & Suites, 185 MacArthur Drive, New Bedford, MA 02740; phone: (774) 634-2000; fax: (774) 634-2001.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will receive a summary of recommendations from the Groundfish Advisory Panel, which met on August 30. They will discuss Framework Adjustment 56, particularly the specifications and management measures, (1) draft alternatives and make recommendations to the Council, (2) they will receive a Plan Development Team (PDT) report that summarizes Atlantic halibut management and recent catch and effort for the directed fishery in the State of Maine, (3) and review a draft letter to the Secretary of Commerce/State of Maine on the halibut issue and make recommendations to the Council. They also plan to discuss the Groundfish Monitoring Action, specifically a progress report from the PDT on the white paper on monitoring strategies, and develop recommendations to the Council. The Committee will discuss possible groundfish priorities for 2017, and develop initial recommendations to the Council. Other business will be discussed as necessary. The Committee will continue in a closed door session to review applications to the Recreational Advisory Panel and Groundfish Advisory Panel.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 24, 2016.
Jeffrey N. Lonergan,
Acting Deputy Director, Office of Sustainable Fisheries, National Marine Fisheries Service.

[FR Doc. 2016-20644 Filed 8-26-16; 8:45 am]

BILLING CODE 3510-22-P